DEPARTMENT OF TRANSPORTATION

Federal Aviation Administration

14 CFR Part 39

[Docket No. FAA-2007-27747; Directorate Identifier 2007-CE-030-AD; Amendment 39-16782; AD 2009-10-09 R2]

RIN 2120-AA64

Airworthiness Directives; Cessna Aircraft Company Airplanes

AGENCY: Federal Aviation Administration (FAA), DOT.

ACTION: Final rule; correction.

SUMMARY: The FAA is correcting an airworthiness directive (AD) that published in the Federal Register. That AD applies to certain Cessna Aircraft Company (Cessna) Models 150F, 150G, 150H, 150J, 150K, 150L, 150M, A150K, A150L, A150M, F150F, F150G, F150H, F150J, F150K, F150L, F150M, FA150K, FA150L, FRA150L, FA150M, FRA150M, 152, A152, F152, and FA152 airplanes. There is an error in the compliance instructions. This document corrects that error. In all other respects, the original document remains the same.

DATES: This final rule; correction, is effective November 8, 2011. The effective date for AD 2009-10-09 R2 remains September 12, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Ann Johnson, Aerospace Engineer, FAA, Wichita Aircraft Certification Office, 1801 Airport Road, Room 100, Wichita, Kansas 67209; phone: (316) 946-4105; fax: (316) 946-4107; email: ann.johnson@faa.gov.

SUPPLEMENTARY INFORMATION: Airworthiness Directive 2009-10-09 R2, Amendment 39-16782 (76 FR 53308, August 26, 2011), currently requires either installing a placard prohibiting spins and other acrobatic maneuvers in the airplane or replacing the rudder stop, the rudder stop bumper, and the attachment hardware with a new rudder stop modification kit for certain Cessna Models 150F, 150G, 150H, 150J, 150K, 150L, 150M, A150K, A150L, A150M, F150F, F150G, F150H, F150J, F150K, F150L, F150M, FA150K, FA150L, FRA150L, FA150M, FRA150M, 152, A152, F152, and FA152 airplanes.

As published, the text in the Procedures column of Table 2 in paragraph (g)(1) of this AD incorrectly states “* * * fabricate the placard required in paragraph (g)(1)(i) of this AD * * *”, and the text should refer to paragraph (g)(1)(ii).

No other part of the preamble or regulatory information has been changed; therefore, only the changed portion of the final rule is being published in the Federal Register.

The effective date of this AD remains September 12, 2011.

Correction of Regulatory Text

§ 39.13 [Corrected]

In the Federal Register of August 26, 2011, on page 53311, in the 3rd column, Procedures, paragraph (g)(1), Table 2—Actions, Compliance and Procedures, of AD 2009-10-09 R2 is corrected to read as follows:

* * * * *

A person authorized to perform maintenance as specified in 14 CFR 43.3 of the Federal Aviation Administration Regulations (14 CFR 43.3) is required to make the AFM and POH changes, fabricate the placard required in paragraph (g)(1)(ii) of this AD, and make an entry into the aircraft logbook showing compliance with the portion of the AD per compliance with 14 CFR 43.9.

* * * * *

Issued in Kansas City, Missouri, on November 2, 2011.
John R. Colomy,
Acting Manager, Small Airplane Directorate, Aircraft Certification Service.

[FR Doc. 2011-28861 Filed 11-7-11; 8:45 am]

BILLING CODE 4910-13-P